DEPARTMENT OF THE INTERIOR

National Park Service

Notice of Inventory Completion: Warren Anatomical Museum, Harvard University, Boston, MA

AGENCY: National Park Service, Interior.

ACTION: Notice.

Notice is here given in accordance with the Native American Graves Protection and Repatriation Act (NAGPRA), 25 U.S.C. 3003, of the completion of an inventory of human remains in the possession and control of Warren Anatomical Museum, Harvard University, Boston, MA. The human remains were removed from the Island of Oahu, HI.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Peabody Museum of Archaeology and Ethnology and Warren Anatomical Museum professional staff in consultation with representatives of the Hawaii Island Burial Council, Hui Malama I Na Kupuna O Hawai'i Nei, Oahu Island Burial Council, and the Office of Hawaiian Affairs.

In 1843, human remains representing a minimum of one individual were removed from Oahu Island, HI, by J. H. Lyman. The human remains were presented to the Anatomical Museum of the Boston Society for Medical Improvement on an unknown date before 1847. The Anatomical Museum of the Boston Society for Medical Improvement transferred its collection to the Warren Anatomical Museum in 1871. No known individual was identified. No associated funerary objects are present.

Osteological characteristics indicate that the human remains are Native American. Museum documentation states that the human remains were recovered from a cave in a “volcanic mountain” on the eastern end of the Island of Oahu in the “Sandwich Islands.” “Sandwich Islands” is an antiquated term used to describe the islands of Hawaii. Anthropological and historic information indicates that cave interments are consistent with traditional Native Hawaiian mortuary practices. Archeological and historic documentation combined with oral traditions support that the human remains are from an area considered to be part of the aboriginal homelands of ancestral Native Hawaiians. Present-day groups that represent Native Hawaiians for the Island of Oahu are Hui Malama I Na Kupuna O Hawai'i Nei, Oahu Island Burial Council, and the Office of Hawaiian Affairs.

Officials of the Peabody Museum of Archaeology and Ethnology and Warren Anatomical Museum have determined that, pursuant to 25 U.S.C. 3001 (9-10), the human remains described above represent the physical remains of one individual of Native American ancestry. Officials of the Peabody Museum of Archaeology and Ethnology and Warren Anatomical Museum also have determined that, pursuant to 25 U.S.C. 3001 (2), there is a relationship of shared group identity that can be reasonably traced between the Native American human remains and Hui Malama I Na Kupuna O Hawai'i Nei, Oahu Island Burial Council, and the Office of Hawaiian Affairs.

Representatives of any other Indian tribe or Native Hawaiian Organization that believes itself to be culturally affiliated with the human remains should contact Patricia Capone, Repatriation Coordinator, Peabody Museum of Archaeology and Ethnology, Harvard University, 11 Divinity Ave., Cambridge, MA 02138, telephone (617) 496-3702, before June 8, 2009. Repatriation of the human remains to Hui Malama I Na Kupuna O Hawai'i Nei, Oahu Island Burial Council, and the Office of Hawaiian Affairs may proceed after that date if no additional claimants come forward.

The Peabody Museum of Archaeology and Ethnology and Warren Anatomical Museum are responsible for notifying the Hawaii Island Burial Council, Hui Malama I Na Kupuna O Hawai'i Nei, Oahu Island Burial Council, and the Office of Hawaiian Affairs that this notice has been published.

Dated: April 28, 2009.
Sherry Hutt,
Manager, National NAGPRA Program.

[FR Doc. E9-10547 Filed 5-6-09; 8:45 am]

BILLING CODE 4312-50-S